ENVIRONMENTAL PROTECTION AGENCY

[FRL-6940-8]

Clean Air Act Operating Permit Program; Petition for Objection to State Operating Permit for Fort James Camas Mill, Camas, Washington

AGENCY: Environmental Protection Agency (EPA).

ACTION: Notice of final order on petition to object to state operating permit.

SUMMARY: Pursuant to Clean Air Act Section 505(b)(2) and 40 CFR 70.8(d), the EPA Administrator is hereby granting in part and denying in part a petition to object to a State operating permit issued by the Washington Department of Ecology (Ecology) to Fort James Camas Mill, Camas, Washington. This order constitutes final action on the petition submitted by Mr. Carl D. Larkins. Pursuant to section 505(b)(2) of the Clean Air Act (Act), petitioner may seek judicial review in the United States Court of Appeals for the appropriate circuit within 60 days of this decision under section 307 of the Act.

ADDRESSES: Copies of the final order, the petition, and all pertinent information relating thereto are on file at the following location: Environmental Protection Agency, Region 10, Office of Air Quality, 1200 Sixth Avenue, Seattle, Washington 98101. The final order is also available electronically at the following address: http://www.epa.gov/ttn/oarpg/t5sn.html

FOR FURTHER INFORMATION CONTACT: William M. Hedgebeth, Office of Air Quality, EPA Region 10, telephone (206) 553-1059, e-mail hedgebeth.william@epa.gov. Interested parties may also contact the Washington Department of Ecology, Industrial Section, 300 Desmond Drive, Lacey, Washington 98503, mailing address P.O. Box 47600, Olympia, Washington 98504-7600.

SUPPLEMENTARY INFORMATION: The Clean Air Act affords EPA the opportunity for a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

Mr. Carl D. Larkins submitted a petition to the Administrator on November 24, 1999, seeking EPA's objection to the operating permit issued to Fort James Camas Mill, Camas, Washington. The petitioner maintains that the Fort James Camas Mill operating permit is inconsistent with the Act because the permit fails to: (1) provide sufficient basis for providing compliance assurance for certain permit conditions; and (2) provide sufficient basis for using surrogate parameters as compliance indicators in certain permit conditions. The order granting in part and denying in part this petition explains the reasons behind EPA's conclusion that: (1) Petitioner adequately demonstrated in certain instances that the Fort James Camas Mill permit did not satisfy all the requirements of 40 CFR Part 70; and (2) petitioner in other instances failed to demonstrate that the Fort James Camas Mill permit does not assure compliance with the Clean Air Act on the grounds raised.

Pursuant to sections 505(b)and 505(e) of the Clean Air Act (42 U.S.C. 7661d(b) and (e)) and 40 CFR 70.7(g) and 70.8(d), Ecology has 90 days from the receipt of the Administrator's order to resolve the objections identified in sections C(1), C(2), C(5), C(8), C(12), C(15), D(2), and D(5) of the order, and submit a proposed determination of termination, modification, or revocation and reissuance of the Fort James Title V permit in accordance with EPA's objection.¹

¹ The description on page 5 of the Administrator's order of the procedures for resolving the objection is in error. As provided in 40 CFR 70.7(g)(4), Ecology has 90 days from the receipt of the order to resolve the objection issues, not two 90 day periods.

Dated: January 19, 2001.
Charles E. Findley,
Acting Regional Administrator, Region X.

[FR Doc. 01-5415 Filed 3-5-01; 8:45 am]

BILLING CODE 6560-50-P